DEPARTMENT OF ENERGY

Federal Energy Regulatory Commission

[Docket Nos. CP18-102-000; CP18-103-000]

Cheyenne Connector, LLC; Rockies Express Pipeline LLC; Notice of Meeting Attendance

The environmental staff of the Federal Energy Regulatory Commission (Commission) will attend three informational public open house meetings sponsored by Cheyenne Connector, LLC and Rockies Express Pipeline LLC. The project sponsor (Tallgrass Energy Partners, LP) will have information on hand for two of its related proposed projects in Weld County, Colorado: The Cheyenne Connector Pipeline (approximately 70 miles of new 36-inch-diameter pipeline and five new meter and regulating stations) and the REX Cheyenne Hub Enhancement (a new 32,100 horsepower compressor station as well as modifications to the existing Cheyenne Hub facility). The meetings will be on April 3, 4, and 5, 2018, in Platteville, Eaton, and Kersey, Colorado, respectively.

Commission staff will be present to explain the Commission's environmental review process and answer related questions. For more information about the projects, including meeting details, visit Tallgrass Energy Partners, LP's website at www.tallgrassenergylp.com/Projects.aspx. Project-related questions can be directed to AskCheyenneConnector@tallgrassenergylp.com (or call 855-288-3997); or AskCheyenneHub@tallgrassenergylp.com (or call 855-211-1262).

Dated: March 16, 2018.
Nathaniel J. Davis, Sr.,
Deputy Secretary.

[FR Doc. 2018-05960 Filed 3-22-18; 8:45 am]

BILLING CODE 6717-01-P